COMMISSION ON CIVIL RIGHTS

Notice of Public Meeting of the Illinois Advisory Committee; Correction

AGENCY: Commission on Civil Rights.

ACTION: Notice; correction to meeting time.

SUMMARY: The Commission on Civil Rights published a notice in the Federal Register on Thursday, July 24, 2025, concerning a meeting of the Illinois Advisory Committee. The meeting time has since changed from 3:00 p.m.-4:30 p.m. CT to 3:30 p.m.-5:00 p.m. CT.

FOR FURTHER INFORMATION CONTACT: Liliana Schiller, Support Services Specialist, at lschiller@usccr.gov or (202) 770-1856.

Correction: In the Federal Register on Thursday, July 24, 2025, in FR Document Number 2025-13944 on page 34836, third column, correct the meeting time to: 3:30 p.m.-5:00 p.m. CT.

Dated: September 9, 2025.
David Mussatt,
Supervisory Chief, Regional Programs Unit.

[FR Doc. 2025-17533 Filed 9-10-25; 8:45 am]

BILLING CODE 6335-01-P